DEPARTMENT OF ENERGY

Federal Energy Regulatory Commission

[Project No. 14314-000]

Francis Walter Hydro, LLC; Notice of Preliminary Permit Application Accepted for Filing and Soliciting Comments, Motions To Intervene, and Competing Applications

On November 1, 2011, Francis Walter Hydro, LLC, filed an application for a preliminary permit, pursuant to section 4(f) of the Federal Power Act (FPA), proposing to study the feasibility of hydropower at the U.S. Army Corps of Engineers (Corps) Francis E. Walter Dam located on the Lehigh River, in Luzerne County, Pennsylvania. The sole purpose of a preliminary permit, if issued, is to grant the permit holder priority to file a license application during the permit term. A preliminary permit does not authorize the permit holder to perform any land-disturbing activities or otherwise enter upon lands or waters owned by others without the owners' express permission.

The proposed Francis E. Walter Hydroelectric Project would consist of the following: (1) A 600-foot-long, 16-foot-diameter steel penstock attached to the existing outlet; (2) a concrete powerhouse 50 feet long by 75 feet wide; (3) two 4.5-megawatt (MW) generators for a total installed capacity of 9.0 MW; (4) a tailrace channel to direct flow back to the Lehigh River; (5) a proposed 0.5-mile-long, 12.4-kilovolt transmission line interconnecting with an existing Pennsylvania Power and Light Corporation distribution line; and (6) appurtenant facilities. The estimated annual generation of the project would be 26.0 gigawatt-hours.

Applicant Contact: Mr. Vincent Lamarra, Symbiotics LLC, 975 South State Highway 89/91, Logan, Utah 84321; phone: (435) 752-2580.

FERC Contact: Tim Looney; phone: (202) 502-6096.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14314-000) in the docket number field to access the document. For assistance, contact FERC Online Support.

Dated: November 14, 2011.
Kimberly D. Bose,
Secretary.

[FR Doc. 2011-30693 Filed 11-28-11; 8:45 am]

BILLING CODE 6717-01-P